DEPARTMENT OF ENERGY

Federal Energy Regulatory Commission

Combined Notice of Filings

Take notice that the Commission has received the following Natural Gas Pipeline Rate and Refund Report filings:

Filings Instituting Proceedings

Docket Numbers: RP17-197-003.

Applicants: Dominion Cove Point LNG, LP.

Description: Dominion Cove Point LNG, LP submits tariff filing per 385.602: DCP-RP17-197 Gas Quality Stipulation and Agreement.

Filed Date: 03/29/2017.

Accession Number: 20170329-5233.

Comment Date: 5:00 p.m. Eastern Time on Monday, April 10, 2017.

Docket Numbers: RP17-565-000.

Applicants: Florida Gas Transmission Company, LLC.

Description: Florida Gas Transmission Company, LLC submits tariff filing per 154.204: Exhibit B Update—add Contracts 119233 and 119623 to be effective 4/1/2017.

Filed Date: 03/29/2017.

Accession Number: 20170329-5037.

Comment Date: 5:00 p.m. Eastern Time on Monday, April 10, 2017.

Docket Numbers: RP17-566-000.

Applicants: Elba Express Company, L.L.C.

Description: Elba Express Company, L.L.C. submits tariff filing per 154.203: Annual Interruptible Revenue Crediting Report.

Filed Date: 03/29/2017.

Accession Number: 20170329-5060.

Comment Date: 5:00 p.m. Eastern Time on Monday, April 10, 2017.

Docket Numbers: RP17-567-000.

Applicants: Northwest Pipeline LLC.

Description: Northwest Pipeline LLC submits tariff filing per 154.204: Extension of Time Provisions Filing to be effective 5/1/2017.

Filed Date: 03/29/2017.

Accession Number: 20170329-5100.

Comment Date: 5:00 p.m. Eastern Time on Monday, April 10, 2017.

Docket Numbers: RP17-568-000.

Applicants: Dominion Transmission, Inc.

Description: Dominion Transmission, Inc. submits tariff filing per 154.204: DTI—March 29, 2017 Administrative Changes to be effective 4/29/2017.

Filed Date: 03/29/2017.

Accession Number: 20170329-5109.

Comment Date: 5:00 p.m. Eastern Time on Monday, April 10, 2017.

Docket Numbers: RP17-569-000.

Applicants: MoGas Pipeline LLC.

Description: MoGas Pipeline LLC submits tariff filing per 154.204: Filing to Implement Proposed GTC Section 7.41 in MoGas FERC Gas Tariff to be effective 5/1/2017.

Filed Date: 03/29/2017.

Accession Number: 20170329-5124.

Comment Date: 5:00 p.m. Eastern Time on Monday, April 10, 2017.

Docket Numbers: RP17-570-000.

Applicants: Horizon Pipeline Company, L.L.C.

Description: Penalty Revenue Crediting Report of Horizon Pipeline Company, L.L.C.

Filed Date: 03/29/2017.

Accession Number: 20170329-5167.

Comment Date: 5:00 p.m. Eastern Time on Monday, April 10, 2017.

Docket Numbers: RP17-571-000.

Applicants: Iroquois Gas Transmission System, L.P.

Description: Iroquois Gas Transmission System, L.P. submits tariff filing per 154.204: 03/29/17 Negotiated Rates—ENI Trading & Shipping (RTS) 7825-02 to be effective 4/1/2017.

Filed Date: 03/29/2017.

Accession Number: 20170329-5195.

Comment Date: 5:00 p.m. Eastern Time on Monday, April 10, 2017.

Docket Numbers: RP17-572-000.

Applicants: Alliance Pipeline L.P.

Description: Alliance Pipeline L.P. submits tariff filing per 154.204: Negotiated Contracts March 2017 to be effective 4/1/2017.

Filed Date: 03/29/2017.

Accession Number: 20170329-5197.

Comment Date: 5:00 p.m. Eastern Time on Monday, April 10, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2017.
Kimberly D. Bose,
Secretary.

[FR Doc. 2017-07038 Filed 4-7-17; 8:45 am]

BILLING CODE 6717-01-P